DEPARTMENT OF LABOR

Employment and Training Administration

[TA-W-51,420]

Drexel Heritage Furnishings, Inc., Drexel, NC; Notice of Termination of Investigation

Pursuant to Section 221 of the Trade Act of 1974, as amended, an investigation was initiated on April 3, 2003 in response to a petition filed by workers at Drexel Heritage Furnishings, Drexel, North Carolina.

The petitioning group of workers is covered by an active certification issued on May 9, 2002, and remains in effect (TA-W-41,003). Consequently, further investigation in this case would serve no purpose, and the investigation has been terminated.

Signed at Washington, DC this 10th day of April, 2003.
Linda G. Poole,
Certifying Officer, Division of Trade Adjustment Assistance.

[FR Doc. 03-10747 Filed 4-30-03; 8:45 am]

BILLING CODE 4510-30-P